DEPARTMENT OF HEALTH AND HUMAN SERVICES

Centers for Disease Control and Prevention

[Program Announcement 04010]

Programs to Improve the Health, Education, and Well-Being of Young People; Notice of Availability of Funds

Application Deadline: December 8, 2003.

A. Authority and Catalog of Federal Domestic Assistance Number

This program is authorized under Sections 301(a), 311(b) and (c), and 317(k)(2) [42 U.S.C. 241(a), 243(b) and (c), and 247b(k)(2)] of the Public Health Service Act, as amended. The Catalog of Federal Domestic Assistance number is 93.938.

B. Purpose

The Centers for Disease Control and Prevention (CDC) announces the availability of fiscal year (FY) 2004 funds for a cooperative agreement program for Programs to Improve the Health, Education, and Well-Being of Young People. This program addresses the “Healthy People 2010” focus areas of Diabetes, Educational and Community-Based Programs, Family Planning, Food Safety, HIV, Nutrition and Overweight, and Sexually Transmitted Diseases. This program also addresses Goal One, Objective Three, Strategies One, Two, and Six of CDC's HIV Prevention Strategic Plan Through 2005 (found at: http://www.cdc.gov/nchstp/od/hiv_plan/default.htm).

The purpose of the program is to improve the education, health, and well-being of young people by strengthening coordinated school health programs and by enabling other youth-serving organizations to address health risks. Award recipients will emphasize efforts to help young people avoid risks (e.g., to avoid sexual intercourse). This may also include efforts to involve parents in programs to improve the health of youth.

Measurable outcomes of the program will be in alignment with the following performance goal and measure for the National Center for Chronic Disease Prevention and Health Promotion (NCCDPHP): Reduce the percentage of HIV/AIDS-related risk behaviors among school-aged youth through the dissemination of HIV prevention education programs. Performance is measured by the percentage of high school students who are taught about HIV/AIDS prevention in school and the proportion of adolescents (grades 9-12) who abstain from sexual intercourse or use condoms if currently sexually active.

This program announcement covers the following six priority areas:

Priority 1: HIV Prevention for School-Age Youth

The purpose of Priority 1 is to build broad nationwide strategies, programs, and support to help schools and other youth-serving agencies prevent sexual risk behaviors that result in HIV infection. Strategies and programs should especially target youth most at risk for HIV infection as identified in CDC's HIV Prevention Strategic Plan Through 2005. Specific populations addressed would include:

• Adolescents who have sex with older male partners

• Adolescents who have multiple sexual partners

• Adolescents who initiate sexual activity at young ages

• Adolescents with multiple lifetime sexual partners

• Adolescents with a history of unprotected sex

• Young men who have sex with men

• Young women who have sex with men who have sex with men.

This priority also includes strategies and programs to involve parents in HIV prevention efforts.

Category A—Schools: These organizations will build capacity and partnerships to help the nation's schools prevent sexual risk behaviors that result in HIV infection. Strategies and programs should especially target youth who are at highest risk for HIV infection per CDC's HIV Prevention Strategic Plan Through 2005, and students in grades 7 through 12.

Category B—Youth-Serving Organizations: These organizations will focus on preventing HIV infection among large populations of youth, especially youth in high-risk situations as identified in CDC's HIV Prevention Strategic Plan Through 2005, Goal 1, Objective 3, Strategy 1. Funded organizations are expected to work through constituencies and networks of youth-serving, community-based agencies and institutions which have access to these young people. Examples include, but are not limited to: Recreation and service organizations, alternative schools, faith-based organizations, juvenile justice facilities, outreach services to runaway and homeless youth, programs for immigrants and limited English speaking youth, and services for youth with substance abuse or mental health problems.

Priority 2: Integration of School Efforts To Prevent HIV, STDs, and Unintended Pregnancy (Optional Enhancements to Priority 1, Category A)

The purpose of Priority 2 is to help schools integrate their efforts to prevent HIV, STDs, and unintended pregnancies. HIV, STD, and unintended pregnancy share many protective factors including sexual abstinence as the most effective prevention method. Integration of efforts to prevent these outcomes will promote increased efficiency and increase the potential for effectiveness. This strategy is consistent with CDC's HIV Prevention Strategic Plan Through 2005, Goal 1, Objective 3, Strategy 6.

Category A—Pregnancy Prevention: These organizations will focus on strategies and programs designed to prevent unintended pregnancy, and how they can be effectively implemented and integrated with strategies and programs designed to prevent HIV and other STDs and increase abstinence from sexual intercourse.

Category B—STD Prevention: These organizations will focus on strategies and programs designed to prevent STDs, and how they can be effectively implemented and integrated with strategies and programs designed to prevent HIV and unintended pregnancy and increase abstinence from sexual intercourse.

Priority 3: Abstinence Collaboration and Partnerships

The purpose of Priority 3 is to strengthen communication, coordination, and collaboration among agencies working to prevent sexual risk behaviors among youth that result in HIV, other STDs, or unintended pregnancy, with an emphasis on partnerships with agencies that focus exclusively on helping school-age youth not to engage in intercourse (i.e. to remain or become abstinent). As stated in the Guidelines for Effective School Health Education to Prevent the Spread of AIDS, abstinence from sexual intercourse is the most effective means of preventing the spread of HIV.

Priority 4: Coordinated School Health Programs and Prevention of Chronic Disease Risks

The purpose of Priority 4 is to support state education and health agencies in strengthening coordinated school health programs to prevent priority health risks among youth, especially those that contribute to chronic diseases. Current funding focuses on strategies and programs to (1) prevent tobacco use and addiction, (2) improve eating patterns, (3) increase physical activity, and (4) prevent obesity among youth.

Priority 5: Prevention of Foodborne Illnesses

The purpose of Priority 5 is to build the capacity of organizations and their constituents to help schools prevent foodborne illnesses within a coordinated school health program.

Priority 6: Training and Professional Development

The purpose of Priority 6 is to increase non-governmental organizational capacity to be as effective as possible in working with their constituencies to reduce health problems among youth. This will be accomplished by planning and delivering learning opportunities and providing technical assistance for other non-governmental organizations.

C. Eligible Applicants

Eligible applicants are non-profit, non-governmental organizations, including organizations that represent faith communities, parents, and families, which have the capacity to achieve the purposes of the priority area(s). Applicants ideally should have local, state, or regional constituencies representing all states and territories, but at minimum representing 25 states/territories.

Eligible applicants for Priority 1 should have a nationwide structure and capacity to help schools (Category A) or youth-serving organizations (Category B) prevent HIV among large numbers of youth. Eligible applicants may apply for both Category A and Category B, but can only be funded for one.

Eligible applicants for Priority 2 should have a nationwide structure and capacity to integrate school efforts to prevent HIV, STDs, and unintended pregnancy. Priority 2, Category A (Pregnancy Prevention) and B (STD Prevention), are optional enhancements to Priority 1, Category A. Thus, to be eligible under Priority 2, organizations must also apply for Priority 1, Category A funding. Only those organizations selected to be funded under Priority 1, Category A will then be considered in the competition for Priority 2 funding. Organizations may apply for one or both categories under Priority 2, so long as they also apply for Priority 1, Category A.

Eligible applicants for Priority 3 should have a nationwide structure and capacity to strengthen communication, coordination, and collaboration among agencies working to prevent sexual risk behaviors among youth that result in HIV, other STDs, or unintended pregnancy, with an emphasis on partnerships with agencies that focus exclusively on helping school-age youth not to engage in intercourse (i.e. to remain or become abstinent).

Eligible applicants for Priority 4 should have a nationwide structure and capacity to help schools implement coordinated school health programs to effectively prevent a wide range of health risks, especially organizations that can support state education and health agency chronic disease efforts.

Eligible applicants for Priority 5 should have a nationwide structure and capacity to help schools prevent foodborne illness and related school absences through school food safety programs and the credentialing of food safety professionals.

Eligible applicants for Priority 6 must demonstrate (1) significant nationwide experience with strategies and programs designed to prevent HIV infection and other health problems among youth within the context of schools or other youth-serving agencies, (2) experience with implementing high quality, training events, and (3) experience in working with other Division of Adolescent and School Health (DASH) funded or similar organizations and knowledge of their training needs.

Note: Title 2 of the United States Code section 1611 states that an organization described in section 501(c)(4) of the Internal Revenue Code that engages in lobbying activities is not eligible to receive Federal funds constituting an award, grant, or loan.

D. Funding

Availability of Funds

Approximately $9,604,000 will be available in FY 2004 for up to 44 awards for Priorities 1 through 6. Funds expected to be available for specific priorities and categories are as follows:

Priority 1: HIV Prevention for School-Age Youth

Approximately $6,879,000 is expected to be available for Priority 1, Category A and B.

Category A—Schools: Approximately $5,465,000 is expected to be available to fund up to 20 organizations. Awards will average $273,250 and will range from approximately $175,000 to $300,000.

Category B—Youth-Serving Organizations: Approximately $1,414,000 is expected to be available to fund up to six organizations. Awards will average $235,666 and will range from approximately $150,000 to $275,000.

Priority 2: Integration of School Efforts to Prevent HIV, STDs, and Unintended Pregnancy (Optional Enhancements to Priority 1, Category A)

Category A—Pregnancy Prevention: Approximately $600,000 is expected to be available to fund up to six organizations. Awards will average $100,000 and will range from approximately $100,000 to $300,000.

Category B—STD Prevention: Approximately $300,000 is expected to be available to fund approximately three organizations. Awards will average $100,000 and will range from approximately $75,000 to $125,000.

Priority 3: Abstinence Collaboration and Partnerships

Approximately $900,000 is expected to be available to fund approximately four organizations. Awards will average $225,000 and will range from approximately $175,000 to $275,000.

Priority 4: Coordinated School Health Programs and Prevention of Chronic Disease Risks

Approximately $550,000 is expected to be available to fund approximately three organizations. Awards will average $183,333 and will range from approximately $125,000 to $200,000.

Priority 5: Prevention of Foodborne Illnesses

Approximately $125,000 is expected to be available to fund one organization.

Priority 6: Training and Professional Development

Approximately $250,000 is expected to be available to fund one organization.

It is expected that all awards will begin on or about May 15,2004, with a 12-month budget period, within a project period of up to two years. Funding estimates may change.

Continuation awards within an approved project period will be made on the basis of satisfactory progress as evidenced by required reports, achievement of performance standards, and the availability of funds.

Use of Funds

Cooperative agreement funds may be used to support personnel and to purchase equipment, supplies, and services (including travel) directly related to program activities and consistent with the scope of the cooperative agreement. Funds are not intended to be used to conduct research projects, provide direct delivery of patient care or treatment services, purchase condoms or contraceptives, or to provide clinical testing or screening services. Federal funds awarded under this Program Announcement may not be used to supplant other Federal funds.

Grantees are encouraged to leverage the maximum use of limited funds through opportunities to work with other nationwide organizations and state and local education and health agencies that are addressing the risk factors and health problems described in Priorities 1 through 6 of this announcement. These opportunities might include, but are not limited to: joint planning activities, joint funding of complementary activities based on program recipient activities, education of constituents and members, collaborative efforts in the development and implementation of strategies and program interventions, and other cost-sharing activities that complement school and youth-focused program priorities.

Recipient Financial Participation

Matching funds are not required for this program.

E. Program Requirements

In conducting activities to achieve the purpose of this program, the recipient will be responsible for the activities under 1. Recipient Activities, and CDC will be responsible for the activities listed under 2. CDC Activities.

1. Recipient Activities

The following activities are applicable to all priorities and recipients:

a. Establish and maintain appropriate and qualified staff positions to implement activities funded under this announcement. With the exception of activities under Priority 2, Category B, each priority area should have at least one full-time staff position within the organization with the responsibility and authority to carry out the activities identified in the operational plan.

b. Collaborate with constituents, CDC, and other relevant federal, national, state, and local organizations to achieve the purposes of the program.

c. Emphasize efforts to help young people avoid risks (e.g. to avoid sexual intercourse).

d. Based on a logic model, implement specific, measurable, and feasible goals and objectives. (Logic models depict the causal mechanisms through which interventions are expected to affect health behaviors.)

e. Evaluate the effectiveness of the program in achieving goals, objectives, and performance measures.

f. Participate in DASH-sponsored conferences and meetings of funded partners.

g. Disseminate program information and materials to constituents, stakeholders, CDC, and other DASH-funded partners.

h. Assess the status of constituents with regard to the purposes of the program and their needs for training, technical assistance, materials, and other resources.

i. Build the capacity of constituents by addressing the needs identified.

j. Plan and implement training and technical assistance based on constituent needs and the purposes of the program.

k. Identify and/or develop and disseminate model strategies, guidelines, procedures, programs, materials, and other resources.

l. Help constituents develop and implement effective strategies and programs.

m. Support locally determined programs consistent with community values and needs.

n. Assist constituents in the development of state or local coalitions to support the purposes of the program.

o. Develop and/or participate in coalitions and initiatives to support the purposes of the program.

p. Collaborate with constituents; state and local education, health, and social service agencies; non-governmental partners; and CDC and other federal agencies to develop strategies to support the purposes of the program.

The following activities are applicable to programs awarded with HIV prevention funding (Priorities 1 and 3):

a. Encourage state and local constituents to work collaboratively with health departments and HIV Prevention Community Planning Groups.

b. Emphasize reaching youth at highest risk for HIV infection as identified in CDC's HIV Prevention Strategic Plan Through 2005.

The following activities are applicable to Priority 6 only:

a. Assess the training and professional development needs of other organizations specifically as it pertains to their work under this program announcement.

b. Develop and implement a professional development plan that addresses the training needs.

c. In collaboration with the CDC-sponsored Professional Development Consortium, plan and implement at least two to three training events within a 12-month period for organizations funded under this program announcement.

d. Coordinate all logistical arrangements and disburse funds for significant costs associated with these training events, including travel, hotel, and per diem expenses for participants and presenters.

e. Evaluate the training events to inform necessary changes in future training offerings and designs.

f. Participate in at least one meeting of the DASH-sponsored Professional Development Consortium each year and conference calls as needed to plan and coordinate training events.

Performance Measures: Measurable outcomes of the program will be in alignment with the following performance goal for the National Center for Chronic Disease Prevention and Health Promotion (NCCDPHP): Reduce the percentage of HIV/AIDS-related risk behaviors among school-aged youth through the dissemination of HIV prevention education programs. Performance is measured by the percentage of high school students who are taught about HIV/AIDS prevention in school and the proportion of adolescents (grades 9-12) who abstain from sexual intercourse or use condoms if currently sexually active.

Performance under Priorities 1 through 5 will be measured by the extent to which recipients:

a. Determine the need for the program based on the reported needs of constituents. Evidence might include: needs assessment reports and/or other data which identifies and documents specific needs for training, materials, or other forms of assistance and support.

b. Address the identified needs, and build constituent's capacity to plan, implement, and evaluate effective strategies and high quality programs. Evidence might include: reports documenting assistance provided to constituents and how the assistance was consistent with identified needs; documentation of the results of the organization's efforts at the constituent level (e.g. the number of interventions planned, implemented, and evaluated at the local level; the results of evaluations; or the numbers of youth reached with effective interventions); and documentation of training activities designed to build knowledge and skills directly applicable to constituent activities and the purposes of the program (e.g. agendas, training materials, and lists of participants and other data collected with record keeping systems such as Training Tracker).

c. Collaborate effectively with constituents and local, state, national, and federal partners to achieve the purposes of the program. Evidence might include: documentation of activities with, and feedback from constituents; the results and outcomes of key meetings and events; documentation of participation, engagement, and support from constituents and other key organizations, including their involvement in the planning, implementation, and evaluation of the program.

d. Reduce health disparities by targeting efforts toward those youth at highest risk for the health problem(s) addressed. Evidence might include: data indicating the racial or ethnic characteristics of youth reached through constituent activities; documentation of grantee activities related to targeting youth at highest risk for the health problem(s) addressed; documentation of strategies utilized to reach underserved youth most in need of the program and to facilitate their participation in the program; documentation of established strategies and procedures to develop curriculum, education materials, and other information in formats that respect cultural values and meet the language and literacy needs of the target population; evidence of development and implementation of strategies to recruit, retain, train, and promote qualified, diverse, and culturally competent program personnel to address the needs of the youth being targeted; evidence, when applicable, of procedures to assess the quality and appropriateness of interpretation and translation services.

e. Monitor and evaluate program activities relative to stated goals and objectives, performance measures, and the effectiveness of selected strategies in achieving desired results. Evidence might include: progress reports indicating the degree to which goals and objectives and/or performance measures were achieved, and evaluation reports documenting the degree to which strategies and programs were delivered as intended, their effectiveness in achieving desired results, lessons learned, and how evaluation results will be used to improve the program.

Performance under Priority 6 will be measured by the extent to which the organization is able to:

a. Plan and implement training events for CDC-funded organizations consistent with their needs. Evidence might include: results of Professional Development Consortium meetings demonstrating how the training needs of organizations were considered in determining the training topics selected; and progress reports documenting the implementation of training events (e.g. agendas, lists of participants, training materials, etc.).

b. Evaluate training events to determine the degree to which desired results were achieved and to inform changes needed in future training designs. Evidence might include: summaries of participant evaluations (content, format, delivery, and recommendations for improvement); results of follow-up surveys; documentation of de-briefing meetings with CDC and the Professional Development Consortium; and revised agendas demonstrating changes made in training designs as a result of evaluations and feedback.

2. CDC Activities

a. Provide and periodically update information related to the purposes or activities of this program announcement.

b. Coordinate with national, state, and local education, health, social service, and other relevant organizations in planning and implementing the components of a broad strategy designed to prevent health risks among school-age youth.

c. Provide consultation and guidance to grantees on program planning, implementation, and evaluation; assessment of program objectives and performance measures; and dissemination of successful strategies, experiences, and evaluation reports.

d. Provide assistance with program planning to assure consistency with the overall strategy, including assistance with the use of logic models and other public health tools and resources.

e. Assist in the evaluation of program activities, including review and feedback of evaluation plans, and linking grantees to additional evaluation expertise from CDC or its contractors.

f. Plan and implement funded partners meetings, conferences, trainings, and work group meetings to provide forums through which grantees can increase their knowledge and skills, learn from each other, share resources, and work collaboratively together to address issues and program activities related to improving the health, education, and well being of young people.

F. Content

Technical Assistance Conference Call

Technical assistance will be available for potential applicants on two conference calls scheduled as follows:

First Call (Conference #7329384)

Date: 10/21/2003.

Time: 1-3 p.m. Eastern Time.

Telephone Number: 1-888-566-0007.

Pass Code: 22135.

Leader: Ms. Judy Powers.

Second Call (Conference #7329405)

Date: 10/23/2003.

Time: 1-3 p.m. Eastern Time.

Telephone Number: 1-866-556-1092.

Pass Code: 19953.

Leader: Ms. Judy Powers.

Potential applicants are requested to call in using only one telephone line. The pass code and leaders name will be required to join the call. The purpose of the conference calls is to help potential applicants understand the scope and intent of the program announcement, Public Health Service funding policies, and application and review procedures. Participation in these conference calls is not mandatory.

Letter of Intent (LOI)

A LOI is required for this program. The Program Announcement title and number must appear in the LOI, as well as the priority(ies) and category(ies) being applied for. The narrative should be no more than two pages, single-spaced, printed on one side, with one-inch margins, in 12 point, unreduced font. Your LOI will be used to provide evidence of eligibility and to plan the objective review process. Failure to submit a LOI will preclude you from submitting an application. However, it will not influence review and funding decisions. The LOI should provide evidence of eligibility; supportive documentation of eligibility may be attached.

Applications

The Program Announcement title and number must appear in the application, as well as the Priority and Category being applied for. A complete, separate application is required for each priority/category applied for. Use the information in the Purpose, Program Requirements, Other Requirements, and Evaluation Criteria sections to develop the application content. Your application will be evaluated on the criteria listed, so it is important to follow them in laying out your program plan. All application pages must be clearly numbered with one-inch margins. Content and narrative must be single-spaced and typewritten in unreduced 12-point font. Applications should be printed on one side only.

Applicants are required to have a Dun and Bradstreet (DUNS) number to apply for a grant or cooperative agreement from the Federal government. The DUNS number is a nine-digit identification number, which uniquely identifies business entities. Obtaining a DUNS number is easy and there is no charge.

To obtain a DUNS number, access the following Web site: http://www.dunandbradstreet.com or call 1-866-705-5711.

Executive Summary

All applications should begin with a clear, concise, one to two page summary, to include: (1) The priority/category being applied for, (2) the amount of funds requested, (3) a brief summary of the overall strategy and the groups and organizations to be reached, and (4) the major activities reflected in the operational plan.

1. Need and Capacity (not more than eight pages)

a. Describe the need for the proposed activities, including the specific groups targeted and the need for the particular strategies and activities planned.

b. Describe the capacity and ability of your organization to address the identified needs and implement the proposed activities, including current and past experience with the priority area and target population(s).

c. Describe the existing organizational structure and how that structure will support the proposed program activities. Include an organizational chart, which may be placed in an appendix.

2. Operational Plan (not more than 15 pages)

a. Goals: List goals that specifically relate to the purpose of the priority/category and program requirements, and indicate what the program will have accomplished by the end of the two-year project period.

b. Objectives: List objectives that are specific, measurable, and feasible to accomplish during the first 12-month budget period. The objectives should relate directly to the project goals and program requirements.

c. Activities: Identify and describe specific activities that will be accomplished to meet each objective. Indicate when each activity will occur, identify the person(s) responsible for each activity and display on a timetable. The plan should also address activities to be conducted over the entire two-year project period.

3. Project Management and Staffing Plan (not more than four pages, excluding items in an appendix)

a. Describe the proposed staffing for the project and provide job descriptions for existing and proposed positions, including the level of responsibility involved for each position.

b. Submit curriculum vitae (limited to two pages per person) for each professional staff member named in the proposal. These may be placed in an appendix.

c. If other organizations will participate in the proposed activities, provide the name(s) of the organization(s), and a letter from each organization describing their role and the specific activities they have agreed to implement or be involved with.

4. Program Monitoring and Evaluation (not more than four pages)

Describe a plan that will collect relevant data to be used for program accountability and to inform decisions about program changes and improvement. Plans should include the type of data to be collected, the methods of data collection and analysis, and how the data will be used. Plans should include at least two levels of data collection:

a. Program Monitoring: Documenting progress in meeting objectives and conducting activities during the budget period.

b. Program Evaluation: Assessing the quality and effectiveness of proposed activities (e.g. trainings, documents, dissemination efforts), and collecting data to assess the performance measures identified under Recipient Activities (Section E).

5. Budget and Accompanying Justification

Provide a detailed budget and line-item justification of all operating expenses for the first 12-month budget period. The budget should be consistent with the stated objectives and planned activities of the project.

Contracts and Consultants: Provide the following information for contracts and consultants: (a) Name of contractor/consultant, (b) method of selection, (c) period of performance, (d) scope of work, (e) method of accountability, and (f) itemized budget with justification.

Travel Funds: Budget requests should include travel funds for staff members to participate in meetings in Atlanta, Georgia or elsewhere, including: DASH annual conference and/or funded partner meetings (two to three days, applicable to all priorities), the CDC-sponsored HIV Prevention Conference (two to three days, applicable to all HIV-funded priorities) and/or the National Conference on Chronic Disease Prevention and Control (two to three days, applicable to those funded under Priority 4).

Indirect Costs: If indirect costs are requested, applicants must include a copy of the organization's current negotiated Federal Indirect Cost Rate Agreement.

G. Submission and Deadline

Letter of Intent (LOI)

On or before November 7, 2003, submit the LOI to: Technical Information Management—LOI 04010, Procurement and Grants Office, Centers for Disease Control and Prevention, 2920 Brandywine Road, Atlanta, GA 30341-4146.

Application Forms

Submit the signed original and two copies of PHS 5161-1 OMB Approval No. 0920-0428) for each application. Forms are available at the following Internet address: http://www.cdc.gov/od/pgo/forminfo.htm.

If you do not have access to the Internet, or if you have difficulty accessing the forms on-line, you may contact the CDC Procurement and Grants Office Technical Information Management Section (PGO-TIM) at (770) 488-2700, and forms will be mailed to you.

Submission Date, Time, and Address

The application must be received by 4 p.m. Eastern Time, December 8, 2003. Submit the original and two copies of each application (i.e., a separate application for each priority/category applied for) to: Technical Information Management—PA# 04010, Procurement and Grants Office, Centers for Disease Control and Prevention, 2920 Brandywine Rd, Room 3000, Atlanta, GA 30341-4146.

Applications may not be submitted electronically.

If you have a question about the receipt of your application, first contact your courier. If you still have a question, contact the PGO-TIM staff at: 770-488-2700. Before calling, please wait two to three days after the application deadline. This will allow time for applications to be processed and logged.

Deadline

LOIs and applications will be considered as meeting the deadline if they are received in the CDC Procurement and Grants Office before 4 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications that do not meet the above criteria will not be eligible for competition and will be discarded. Applicants will be notified of their failure to meet the submission requirements.

H. Evaluation Criteria

Letter of Intent (LOI)

The LOI will be used only to ascertain eligibility for the priority being applied for, and to assist in planning the objective review process. The criteria for eligibility are indicated in the section on Eligible Applicants. All organizations which are determined ineligible for the priority being applied for, whether through information provided in the LOI or in the application itself, will be notified that they are ineligible and why.

Application

Applicants are required to provide measures of effectiveness that will demonstrate the accomplishment of the various identified purposes and objectives of the cooperative agreement. Measures of effectiveness must also relate to the applicable performance measures listed in the “Program Requirements” section. Measures must be objective and quantitative and must measure the intended outcome. These measures of effectiveness shall be submitted with the application and shall be an element of evaluation.

Each application will be evaluated individually against the following criteria. All applications will be competitive and reviewed by an independent review group appointed by CDC. Points indicated in parentheses below reflect the total number possible for that section. The total number of possible points for the entire application is 100.

1. Operational Plan (40 Points)

a. Goals: The extent to which the applicant has submitted goals that align with Healthy People 2010 focus areas, HHS Department-wide program objectives including STEPS to a HealthierUS, and the performance goals for NCCDPHP as indicated in the purpose section of this announcement. The extent to which the applicant has submitted goals that are specific and feasible for the two-year project period and are consistent with the purpose of the priority/category and program requirements.

b. Objectives: The extent to which the applicant has submitted objectives for the first 12-month budget period that are specific, measurable, feasible, and directly related to the goals, purpose, and program requirements.

c. Activities: The extent to which the applicant describes activities that are likely to achieve the objectives identified, provides a timetable, and identifies the person(s) responsible for each activity.

d. The extent to which the overall operational plan reflects a coherent, effective strategy for achieving optimal impact and results within the priority area addressed.

e. The extent to which the applicant demonstrates realistic evidence of collaboration with federal agencies, other organizations, and state and local education and health agencies to achieve the purposes of the program.

f. The extent to which the overall operational plan includes activities to reach communities of color and youth at highest risk for health problems.

2. Need and Capacity (30 Points)

a. The extent to which the applicant justifies the need and demonstrates the ability to implement strategies that serve the greatest unmet needs for the proposed activities.

b. The extent to which the applicant demonstrates the capacity and ability of their organization and constituency to address the identified needs and implement the proposed activities.

3. Project Management and Staffing (15 Points)

The extent to which the applicant identifies staff that have the responsibility, qualifications, and authority to carry out the activities proposed, as evidenced by job descriptions, curriculum vitae, organizational charts, and letters documenting the role of collaborating organizations.

4. Program Monitoring and Evaluation (15 Points)

The extent to which the applicant describes relevant data collection plans for program monitoring and evaluation that include the type of data to be collected, methods of data collection and analysis, and how the data will be used.

5. Budget and Accompanying Justification (Not Scored)

The extent to which the applicant provides a detailed and clear budget consistent with the operational plan.

I. Other Requirements

Technical Reporting Requirements

Send an original and two copies of the following reports to the Grants Management Specialist identified in the “Where to Obtain Additional Information” section of this announcement:

1. Interim Progress Report and Continuation Plan

For the first year of the project, an interim progress report and continuation plan will be due by February 15, 2005. The interim progress report will be used as evidence of achievement to date in meeting approved goals, objectives, and performance measures. Continuation funding decisions will be made on the basis of satisfactory progress on performance measures and the availability of funds. The interim progress report/continuation plan should include:

a. HIV Assurance and Compliance Forms (for recipients of HIV funding only): These include the form certifying compliance with Web Site Notices, and CDC Form 0.1113 signed by the chairperson of the HIV Review Panel which lists the names of current review panel members. The applicant should also submit documentation, signed by the chairperson, of materials reviewed, and the panel's decision to approve or disapprove each item.

b. A succinct description (no longer than ten pages) of progress made to date in meeting each program objective, including discussion of any significant delays or barriers and what is being done to correct the situation.

c. A financial progress report which provides an estimate of the overall obligations for the current budget period, and the actions to be taken if unobligated or insufficient funds are anticipated.

d. An operational plan for the next budget period, which includes all goals, objectives, and activities. Descriptions of staffing or evaluation activities are necessary only if there are significant changes from those provided in the original application.

e. A line item budget and budget justification for the next budget period (including information needed for proposed contracts and consultants as described in Section F: Content, Budget and Accompanying Justification).

2. Annual Progress Report

Within 90 days after the end of the first budget period (by August 14, 2005), submit an annual progress report that includes information described in (a) above (if applicable) and (b) above, with the exception that the period covered should be the entire budget period (May 15, 2004 to May 14, 2005). Within 90 days after the end of the entire two-year project period (by August 14, 2006), submit a final progress report.

3. Financial Status Report

Within 90 days after the end of the first budget period (by August 14, 2005), submit a Financial Status Report. Within 90 days after the end of the entire two-year project period (by August 14, 2005), submit a final Financial Status Report.

Additional Requirements

Projects that involve the collection of information from 10 or more individuals and funded by a cooperative agreement will be subject to review and approval by the Office of Management and Budget (OMB) under the Paperwork Reduction Act.

The following additional requirements are applicable to this program. For a complete description of each, see appendix D of the announcement as posted on the CDC Web site:

AR-1 Human Subjects Requirement

AR-5 HIV Review Panel Requirements (HIV funded projects only)

AR-7 Executive Order 12372 Review

AR-9 Paperwork Reduction Act Requirements

AR-10 Smoke-Free Workplace Requirements

AR-11 Healthy People 2010

AR-12 Lobbying Restrictions

AR-13 Prohibition on Use of CDC Funds for Certain Gun Control Activities

AR-15 Proof of Non-Profit Status

AR-20 Conference Support

J. Where To Obtain Additional Information

This and other CDC announcements, the necessary applications, and associated forms can be found on the CDC Web site, Internet address: http://www.cdc.gov. Click on “Funding,” then “Grants and Cooperative Agreements.”

For general questions about this announcement, contact: Technical Information Management, CDC Procurement and Grants Office, 2920 Brandywine Road, Atlanta, GA 30341-4146, Telephone: 770-488-2700.

For business management and budget assistance, contact: Nealean Austin, Grants Management Officer, Acquisitions and Assistance Branch, Procurement and Grants Office, Centers for Disease Control and Prevention, 2920 Brandywine Road, Atlanta, GA 30341-4146, Telephone number: (770) 488-2754, E-mail address: NEA1@cdc.gov.

For program technical assistance, send questions in writing to the following e-mail address: nccddashpdsbnta@cdc.gov.

Potential applicants may obtain online copies of documents referenced in this announcement at the following addresses:

CDC's HIV Prevention Strategic Plan Through 2005: http://www.cdc.gov/nchstp/od/news/prevention.pdf.

Healthy People 2010: http://www.health.gov/healthypeople.

Further guidance is available at the DASH Web site: http://www.cdc.gov/nccdphp/dash.

Dated: October 2, 2003.
Edward Schultz,
Acting Director, Procurement and Grants Office, Centers for Disease Control and Prevention.

[FR Doc. 03-25481 Filed 10-7-03; 8:45 am]

BILLING CODE 4163-18-P